DEPARTMENT OF ENERGY

Federal Energy Regulatory Commission

Combined Notice of Filings #1

Take notice that the commission received the following accounting Request filings:

Docket Numbers: AC26-18-000.

Applicants: Entergy Louisiana, LLC.

Description: Entergy Louisiana, LLC requests approval to use Account 182.2, to record the early retirement costs and related removal costs of certain distribution and limited transmission plant, covered under the Resilience Plan.

Filed Date: 12/30/25.

Accession Number: 20251230-5483.

Comment Date: 5 p.m. ET 1/20/26.

Take notice that the Commission received the following electric corporate filings:

Docket Numbers: EC26-43-000.

Applicants: Cottonwood Energy Company LP, Entergy Louisiana, LLC.

Description: Joint Application for Authorization Under Section 203 of the Federal Power Act of Cottonwood Energy Company LP, et al.

Filed Date: 12/22/25.

Accession Number: 20251222-5379.

Comment Date: 5 p.m. ET 2/20/26.

Docket Numbers: EC26-44-000.

Applicants: NorthWestern Energy Group Inc., Black Hills Corporation.

Description: Joint Application for Authorization Under Section 203 of the Federal Power Act of Black Hills Corporation, et al.

Filed Date: 12/22/25.

Accession Number: 20251222-5401.

Comment Date: 5 p.m. ET 2/20/26.

Docket Numbers: EC26-45-000.

Applicants: Entergy Louisiana, LLC, Mondu Solar, LLC.

Description: Joint Application for Authorization Under Section 203 of the Federal Power Act of Entergy Louisiana, LLC, et al.

Filed Date: 12/29/25.

Accession Number: 20251229-5555.

Comment Date: 5 p.m. ET 1/20/26.

Docket Numbers: EC26-46-000.

Applicants: Beulah Solar, LLC, PGR 2021 Lessee 2, LLC, Centerfield Cooper Solar, LLC, PGR Lessee O, LLC, Highest Power Solar, LLC, PGR 2021 Lessee 7, LLC, Lick Creek Solar, LLC, PGR 2021 Lessee 5, LLC, Peony Solar LLC, Stanly Solar, LLC, PGR 2021 Lessee 1, LLC, Sugar Solar, LLC, PGR 2020 Lessee 8, LLC, Trent River Solar, LLC, Trent River Solar Mile Lessee, LLC, TWE Bowman Solar Project, LLC, PGR Lessee L, LLC, GoodFinch Back Bay Manager, LLC.

Description: Joint Application for Authorization Under Section 203 of the Federal Power Act of Beulah Solar, LLC, et al.

Filed Date: 12/29/25.

Accession Number: 20251229-5558.

Comment Date: 5 p.m. ET 1/20/26.

Docket Numbers: EC26-47-000.

Applicants: Allora Solar, LLC, PGR 2021 Lessee 19, LLC, Cabin Creek Solar, LLC, PGR 2021 Lessee 12, LLC, Gunsight Solar, LLC, PGR 2021 Lessee 15, LLC, Phobos Solar, LLC, PGR 2021 Lessee 11, LLC, Foley Solar, LLC, East Atmore Solar, LLC.

Description: Joint Application for Authorization Under Section 203 of the Federal Power Act of Allora Solar, LLC, et al. under.

Filed Date: 12/30/25.

Accession Number: 20251230-5479.

Comment Date: 5 p.m. ET 1/20/26.

Take notice that the Commission received the following Complaints and Compliance filings in EL Dockets:

Docket Numbers: EL26-36-000.

Applicants: Northern Indiana Public Service Company LLC v. Midcontinent Independent System Operator, Inc.

Description: Complaint of Northern Indiana Public Service Company LLC v. Midcontinent Independent System Operator, Inc.

Filed Date: 12/29/25.

Accession Number: 20251229-5444.

Comment Date: 5 p.m. ET 1/20/26.

Take notice that the Commission received the following electric rate filings:

Docket Numbers: ER10-2128-028.

Applicants: Wolverine Creek Energy LLC.

Description: Triennial Market Power Analysis for Northwest Region of Wolverine Creek Energy LLC.

Filed Date: 12/30/25.

Accession Number: 20251230-5481.

Comment Date: 5 p.m. ET 3/2/26.

Docket Numbers: ER11-1933-009.

Applicants: Green Mountain Power Corporation.

Description: Triennial Market Power Analysis for Northeast Region of Green Mountain Power Corporation.

Filed Date: 12/30/25.

Accession Number: 20251230-5474.

Comment Date: 5 p.m. ET 3/2/26.

Docket Numbers: ER14-1480-002.

Applicants: KMC Thermo, LLC.

Description: Refund Report: Refund Report to be effective N/A.

Filed Date: 12/31/25.

Accession Number: 20251231-5233.

Comment Date: 5 p.m. ET 1/21/26.

Docket Numbers: ER15-2589-009.

Applicants: CPV Shore, LLC.

Description: Compliance filing: Compliance Filing of Tariff Records to Implement Settlement Rate to be effective 12/16/2024.

Filed Date: 12/30/25.

Accession Number: 20251230-5221.

Comment Date: 5 p.m. ET 1/20/26.

Docket Numbers: ER15-2589-010.

Applicants: CPV Shore, LLC.

Description: Compliance filing: Compliance Filing of Tariff Records to Implement Settlement Rate to be effective 9/1/2025.

Filed Date: 12/30/25.

Accession Number: 20251230-5245.

Comment Date: 5 p.m. ET 1/20/26.

Docket Numbers: ER17-259-008.

Applicants: Darby Power, LLC.

Description: Compliance filing: Reactive Tariff 2025—Compliance to 129 to be effective 10/1/2025.

Filed Date: 12/31/25.

Accession Number: 20251231-5318.

Comment Date: 5 p.m. ET 1/21/26.

Docket Numbers: ER17-260-008.

Applicants: Gavin Power, LLC.

Description: Compliance filing: Reactive Tariff 2025—Compliance to 130 to be effective 10/1/2025.

Filed Date: 12/31/25.

Accession Number: 20251231-5319.

Comment Date: 5 p.m. ET 1/21/26.

Docket Numbers: ER17-262-008.

Applicants: Waterford Power, LLC.

Description: Compliance filing: Reactive Tariff 2025—Compliance to 132 to be effective 10/1/2025.

Filed Date: 12/31/25.

Accession Number: 20251231-5323.

Comment Date: 5 p.m. ET 1/21/26.

Docket Numbers: ER18-2497-014.

Applicants: Lawrenceburg Power, LLC.

Description: Compliance filing: Reactive Tariff 2025—Compliance to 148 to be effective 10/1/2025.

Filed Date: 12/31/25.

Accession Number: 20251231-5322.

Comment Date: 5 p.m. ET 1/21/26.

Docket Numbers: ER25-2514-001.

Applicants: Green Country Energy, LLC.

Description: Tariff Amendment: Market-Based Rate Tariff Cancellation to be effective 6/30/2025.

Filed Date: 12/31/25.

Accession Number: 20251231-5166.

Comment Date: 5 p.m. ET 1/21/26.

Docket Numbers: ER26-85-002.

Applicants: Armadillo Flats Wind Energy, LLC.

Description: Tariff Amendment: Amendment to Armadillo Flats Wind Energy MBR Application to be effective 12/10/2025.

Filed Date: 12/31/25.

Accession Number: 20251231-5384.

Comment Date: 5 p.m. ET 1/21/26.

Docket Numbers: ER26-86-002.

Applicants: Blackwell Wind I, LLC.

Description: Tariff Amendment: Amendment to Blackwell Wind I MBR Application to be effective 12/10/2025.

Filed Date: 12/31/25.

Accession Number: 20251231-5399.

Comment Date: 5 p.m. ET 1/21/26.

Docket Numbers: ER26-88-001.

Applicants: High Majestic Wind Energy II, LLC.

Description: Tariff Amendment: Amendment to High Majestic Wind Energy II MBR Application to be effective 12/10/2025.

Filed Date: 12/31/25.

Accession Number: 20251231-5397.

Comment Date: 5 p.m. ET 1/21/26.

Docket Numbers: ER26-924-000.

Applicants: GridLiance West LLC.

Description: 205(d) Rate Filing: GWL Annual TRBAA Filing 2026 to be effective 1/1/2026.

Filed Date: 12/30/25.

Accession Number: 20251230-5405.

Comment Date: 5 p.m. ET 1/20/26.

Docket Numbers: ER26-925-000.

Applicants: ISO New England Inc., New England Power Pool Participants Committee.

Description: 205(d) Rate Filing: ISO New England Inc. submits tariff filing per 35.13(a)(2)(iii: ISO-NE; Rev. to Implement a Prompt Capacity Market and Deactivation Framework to be effective 3/31/2026.

Filed Date: 12/30/25.

Accession Number: 20251230-5436.

Comment Date: 5 p.m. ET 1/20/26.

Docket Numbers: ER26-926-000.

Applicants: Mammoth One LLC.

Description: 205(d) Rate Filing: Revisions to Market-Based Rate Tariff to be effective 3/2/2026.

Filed Date: 12/31/25.

Accession Number: 20251231-5009.

Comment Date: 5 p.m. ET 1/21/26.

Docket Numbers: ER26-927-000.

Applicants: PJM Interconnection, L.L.C.

Description: 205(d) Rate Filing: Original NSA, SA No. 7793; Queue No. W1-108 to be effective 3/2/2026.

Filed Date: 12/31/25.

Accession Number: 20251231-5145.

Comment Date: 5 p.m. ET 1/21/26.

Docket Numbers: ER26-928-000.

Applicants: Chester SVC Partnership.

Description: 205(d) Rate Filing: 12-31-2025 Amended and Restated Chester SVC Facilities Support Agreement to be effective 1/1/2026.

Filed Date: 12/31/25.

Accession Number: 20251231-5158.

Comment Date: 5 p.m. ET 1/21/26.

Docket Numbers: ER26-929-000.

Applicants: Valley Electric Association, Inc.

Description: 205(d) Rate Filing: Annual TRBAA Filing for 2026 to be effective 1/1/2026.

Filed Date: 12/31/25.

Accession Number: 20251231-5212.

Comment Date: 5 p.m. ET 1/21/26.

Docket Numbers: ER26-930-000.

Applicants: Maine Electric Power Company, Inc.

Description: 205(d) Rate Filing: 12-31-2025 Amended and Restated Ground Lease Agreement to be effective 1/1/2026.

Filed Date: 12/31/25.

Accession Number: 20251231-5211.

Comment Date: 5 p.m. ET 1/21/26.

Docket Numbers: ER26-931-000.

Applicants: PJM Interconnection, L.L.C.

Description: 205(d) Rate Filing: Amendment to NSA, SA No. 7543; AE1-103 to be effective 3/2/2026.

Filed Date: 12/31/25.

Accession Number: 20251231-5236.

Comment Date: 5 p.m. ET 1/21/26.

Docket Numbers: ER26-932-000.

Applicants: Avista Corporation.

Description: Tariff Amendment: Avista Corp—Cancellation of RS AV-TR17-0360 WOH Capacity Allocation Agmt to be effective 10/10/2025.

Filed Date: 12/31/25.

Accession Number: 20251231-5285.

Comment Date: 5 p.m. ET 1/21/26.

Take notice that the Commission received the following public utility holding company filings:

Docket Numbers: PH26-4-000.

Applicants: Pattern Energy Group LLC.

Description: Pattern Energy Group LLC submits FERC-65 Notification of Holding Company Status and FERC 65-B Notice of Change in Fact to Waiver Notification.

Filed Date: 12/22/25.

Accession Number: 20251222-5384.

Comment Date: 5 p.m. ET 1/12/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 31, 2025.
Carlos D. Clay,
Deputy Secretary.

[FR Doc. 2026-00012 Filed 1-5-26; 8:45 am]

BILLING CODE 6717-01-P